DEPARTMENT OF DEFENSE

GENERAL SERVICES ADMINISTRATION

NATIONAL AERONAUTICS AND SPACE ADMINISTRATION

48 CFR Part 42

[FAR Case 2009-042; Docket 2011-0087, Sequence 1]

RIN 9000-AM09

Federal Acquisition Regulation; Documenting Contractor Performance; Correction

AGENCY: Department of Defense (DoD), General Services Administration (GSA), and National Aeronautics and Space Administration (NASA).

ACTION: Proposed rule; correction.

SUMMARY: This document corrects the comment date published in the Federal Register of August 9, 2011, regarding the proposed rule for Documenting Contractor Performance.

DATES: The comment period for the proposed rule published June, 28, 2011, at 76 FR 37704, is extended. Comments will be received until September 29, 2011.

FOR FURTHER INFORMATION CONTACT: Mr. Curtis E. Glover, Sr., Procurement Analyst, at (202) 501-1448. Please cite FAR Case 2009-042.

Correction

In the proposed rule FR Doc. 2011-20089, beginning on page 48776, in the 2nd column, in the issue of August 9, 2011, make the following correction, in the DATES section:

Remove “September 8, 2011” and add “September 29, 2011” in its place.

Hada Flowers,
Division Director, Regulatory Secretariat, Office of Governmentwide Policy, Office of Acquisition Policy.

[FR Doc. 2011-20778 Filed 8-15-11; 8:45 am]

BILLING CODE 6820-EP-P